NUCLEAR REGULATORY COMMISSION

[Docket Nos. 50-269, 50-270, and 50-287]

Duke Power Company LLC, Oconee Nuclear Station, Units 1, 2, and 3; Amendments to Facility Operating Licenses

The U.S. Nuclear Regulatory Commission (NRC, the Commission) has granted the request of Duke Power Company LLC (the licensee) to withdraw its February 14, 2005, application for proposed amendments to Renewed Facility Operating License Nos. DPR-38, DPR-47, and DPR-55 for Oconee Nuclear Station, Units 1, 2, and 3, respectively, located in Oconee County.

The proposed amendments would have revised the Technical Specifications to accommodate the replacement of the current analog-based reactor protective system (RPS) and engineered safeguards protective system (ESPS) with a digital computer-based RPS and ESPS.

The Commission had previously issued a Notice of Consideration of Issuance of Amendment published in the Federal Register on March 16, 2005 (70 FR 12907). However, by letter dated June 22, 2006, the licensee withdrew the proposed change.

For further details with respect to this action, see the application for amendments dated February 14, 2005, and the licensee's letter dated June 22, 2006, which withdrew the application for license amendments. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 24th day of July 2006.
For the Nuclear Regulatory Commission.
Leonard N. Olshan,
Project Manager, Plant Licensing Branch II-1, Division of Operating Reactor Licensing, Office of Nuclear Reactor Regulation.

[FR Doc. E6-12725 Filed 8-4-06; 8:45 am]

BILLING CODE 7590-01-P